DEPARTMENT OF JUSTICE

Notice of Lodging of Proposed Consent Decree Under the Clean Water Act

On January 19, 2017, the Department of Justice lodged a proposed Consent Decree with the United States District Court for the Northern District of Iowa in the lawsuit entitled United States v. Meadowvale Dairy, LLC, et al., Civil Action No. 5:15-cv-4016-LTS.

The proposed Consent Decree will resolve Clean Water Act claims alleged in this action by the United States against Meadowvale Dairy, LLC (“Meadowvale”) and Mr. Sjerp Ysselstein (collectively “Settling Defendants”) for violations of two permits issued to concentrated animal feeding operations (“CAFOs”) at the Settling Defendants' facility, and for unauthorized discharges into waters adjoining the facility. Under the terms of the proposed Consent Decree, the Settling Defendants will pay a civil penalty of $160,000 and prepare and implement a comprehensive Work Plan designed to ensure permit compliance and to prevent unauthorized discharges from the CAFOs. The Settling Defendants must also retain an independent third party to conduct two annual compliance audits to ensure ongoing compliance with the terms of the proposed Consent Decree and the controlling permits.

The publication of this notice opens a period for public comment on the proposed Consent Decree. Comments should be addressed to the Assistant Attorney General, Environment and Natural Resources Division, and should refer to United States v. Meadowvale Dairy, LLC, et al., D.J. Ref. No. 90-5-1-1-11243. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the proposed Consent Decree may be examined and downloaded at this Justice Department Web site: https://www.justice.gov/enrd/consent-decrees. We will provide a paper copy of the proposed Consent Decree upon written request and payment of reproduction costs. Please mail your request and payment to: Consent Decree Library, U.S. DOJ—ENRD, P.O. Box 7611, Washington, DC 20044-7611.

Please enclose a check or money order for $11.75 (25 cents per page reproduction cost) payable to the United States Treasury.

Susan M. Akers,
Assistant Section Chief, Environmental Enforcement Section, Environment and Natural Resources Division.

[FR Doc. 2017-02077 Filed 1-31-17; 8:45 am]

BILLING CODE 4410-15-P